DEPARTMENT OF TRANSPORTATION

Federal Railroad Administration

Petition for Waiver of Compliance

In accordance with part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Gulf & Ohio Railways

[Docket Number FRA-2002-11897]

The Gulf and Ohio Railways, parent company to the Knoxville and Holston River Railroad (KXHR), has petitioned for a permanent waiver of compliance from the requirements of the 49 CFR Federal Track Safety Standards Part 213.233, Track Inspections. This requirement prescribes a Gregorian calendar-based frequency for inspecting track to detect deviations from the standards. Railroads operating passenger trains are required to schedule a twice weekly track inspection with at least a one-day interval between inspections.

KXHR began revenue passenger service in early November of 1999. KXHR schedules passenger operations to begin the last week in March and end about mid-November of each year. A passenger train operates twice a day, on Saturdays and Sundays, between milepost 5.8 and milepost 10.8 over the River Front Extension (RFE) track. Freight trains operate daily, Monday through Friday, throughout the RFE's 11.6-miles. In 2001, a substantial number of passengers (more than 12,000) rode the excursion train. In the same year, the traffic density was estimated at 0.072 million gross tons. On the RFE district, KXHR Timetable Number 1 authorizes a maximum speed of 15-miles per hour for passenger and 10-miles per hour for freight trains. The method of operation is Yard Limit Rule (General Code of Operating Rules). Since 1998, KXHR has operated trains with only one reportable incident, which was a derailment attributed to an equipment failure.

KXHR claims the passenger train operation is on consecutive days, requiring them to make two inspections between Monday and Friday, even though they do not operate the passenger train between inspections. KXHR requests relief from the second inspection during the week. In the event a special train is operated between Monday and Friday, KXHR states they will conduct the compulsory twice weekly inspections.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2002-11897) and must be submitted to the Docket Clerk, DOT Central Docket Management Facility, Room PL-401, Washington, DC 20590-0001. Communications received within 45 days of the date of this notice will be considered by FRA before final action is taken. Comments received after that date will be considered as far as practicable. All written communications concerning these proceedings are available for examination during regular business hours (9:00 a.m.-5:00 p.m.) at the above facility. All documents in the public docket are also available for inspection and copying on the Internet at the docket facility's Web site at http://dms.dot.gov.

Issued in Washington, DC, on July 8, 2002.
Grady C. Cothen, Jr.,
Deputy Associate Administrator for Safety Standards and Program Development.

[FR Doc. 02-17567 Filed 7-11-02; 8:45 am]

BILLING CODE 4910-06-P